DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Measures of Co-Occurring Infrastructure (OMB No. 0930-0284)—Revision

SAMHSA's Center for Mental Health Services and Center for Substance Abuse Treatment conducts a data collection activity for provider-level performance measures about the screening, assessment, and treatment of co-occurring disorders. The measures were developed with active input from COSIG grantees. Their input was also sought regarding suggestions for making the implementation and reporting processes as smooth as possible. Based on suggestions from COSIG grantees, CSAT has taken the following actions to improve data quality: Clarified instructions, simplified minimum required reporting, developed optional reporting methods, allowed grantees time to work out internal processes, and held monthly conference calls to answer grantee questions and to allow grantees to share experiences with implementation. These steps allow CSAT to enhance working relationships with the grantees and improve the overall quality of the data collection process.

Implementation will be limited to 16 of the States with Co-occurring State Incentive Grants (COSIG) and States receiving COSIG grants in future years. COSIG grants enable States to develop or enhance their infrastructure and capacity to provide accessible, effective, comprehensive, coordinated/integrated, and evidence-based treatment services to persons with co-occurring substance abuse and mental disorders. Only the immediate Office of the Governor of States may receive COSIG grants, because SAMHSA considers the Office of the Governor to have the greatest potential to provide the multi-agency leadership needed to accomplish COSIG goals. The COSIG program is part of SAMHSA's plan to achieve certain goals regarding services for persons with co-occurring substance use and mental disorders:

• Increase percentage of treatment programs that screen for co-occurring disorders;

• Increase percentage of treatment programs that assess for co-occurring disorders;

• Increase percentage of treatment programs that treat co-occurring disorders through collaborative, consultative, and integrated models of care;

• Increase the number of persons with co-occurring disorders served.

These measures will enable SAMHSA to benchmark and track progress toward these goals within COSIG States.

Information will be collected annually about the number and percentage of programs that offer screening, assessment, and treatment services for co-occurring disorders; and the number of clients actually screened, assessed, and treated through these programs. Information will also be collected annually about providers' policies regarding screening, assessment, and treatment services for persons with co-occurring disorders.

A questionnaire, to be completed by providers, contains 47 items, answered either by checking a box or entering a number in a blank. The questionnaire is available both in printed form and electronically. Obtaining the information to enter on the questionnaire will require respondent providers to track screening, assessment, and treatment services for clients.

COSIG States will be required to report information to SAMHSA for all providers directly participating in their COSIG projects. SAMHSA will consider sampling strategies for States with large numbers of participating providers and for providers serving large numbers of clients. Annual burden for the activities is shown below:

Data collection | Number of respondents | Responses per respondent | Hours per response (min) | Total burden hours
Capacity to Screen, Assess, and Treat | 298 | 1 | 4.5 | 1,341
Policy on Screening, Assessment, Referral, and Treatment | 298 | 1 | 3 | 15
Total | 298 |  |  | 1,356

Written comments and recommendations concerning the proposed information collection should be sent by July 14, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: June 6, 2008.
Elaine Parry,
Acting Director, Office of Program Services.

[FR Doc. E8-13189 Filed 6-11-08; 8:45 am]

BILLING CODE 4162-20-P